DEPARTMENT OF ENERGY

Federal Energy Regulatory Commission

[Docket No. CP05-396-000]

Sabine Pass LNG, L.P.; Notice of Intent To Prepare an Environmental Assessment for the Proposed Sabine Pass LNG Terminal Phase II Project and Request for Comments on Environmental Issues

September 14, 2005.

The staff of the Federal Energy Regulatory Commission (FERC or Commission) will prepare an environmental assessment (EA) that will discuss the environmental impacts of the Sabine Pass LNG Phase II Project involving construction and operation of liquefied natural gas (LNG) import terminal facilities by Sabine Pass LNG, L.P. (SPLNG) in Cameron Parish, Louisiana.¹ These facilities would consist of three additional LNG storage tanks and new and expanded LNG vaporization systems. This EA will be used by the Commission in its decision-making process to determine whether the project is in the public convenience and necessity.

¹ SPLNG's application was filed with the Commission under section 3 of the Natural Gas Act and Part 153 of the Commission(s regulations.

The SPLNG Phase II Project would complement the SPLNG Phase I Project that was authorized by the Commission on December 21, 2004 in Docket No. CP04-47-000. The SPLNG Phase I Project is currently under construction. The SPLNG Phase II Project would increase the LNG import terminal's planned send-out capacity from 2.6 billion standard cubic feet per day (Bscfd) to 4 Bscfd and the number of LNG ships from 300 to 400 ships per year.

Summary of the Proposed Project

In the Commission's December 21, 2004 Order for the Phase I Project, SPLNG was authorized to construct and operate an LNG import terminal consisting of a ship turning basin and two protected ship berths, three LNG storage tanks, associated vaporization facilities, and a 16-mile-long, 42-inch-diameter natural gas send-out pipeline.

SPLNG wants to expand the throughput capacity of the Phase I Project to import, store, vaporize, and send out an additional 1.4 Bscfd. SPLNG seeks authority to construct and operate:

• Three 160,000 m³ single containment LNG storage tanks;

• Sixteen Ambient Air Vaporization (AAV) Trains, each with a high-pressure sendout pump;

• Eight Submerged Combustion Vaporization (SCV) Trains, each with a high-pressure sendout pump;

• One Pilot AAV Train;

• Two additional parallel stainless steel LNG transfer lines;

• Two 50 percent Boil off gas (BOG) compressors;

• Two additional BOG condensing systems;

• Four shell-and-tube heat exchangers;

• Two vapor return blowers

• One 27 megawatt simple-cycle gas turbine generator; and

• Two 30-inch sendout pipelines to new main meters.

The location of the project facilities is shown in Appendix 1.² The SPLNG Phase II facilities would be adjacent to or within the boundary of the Phase I site.

² The appendices referenced in this notice are not being printed in the Federal Register. Copies of all appendices, other than Appendix 1 (maps), are available on the Commission's Web site at the “eLibrary” link or from the Commission(s Public Reference Room, 888 First Street, NE., Washington, DC 20426, or call (202) 502-8371. For instructions on connecting to eLibrary refer to the last page of this notice. Copies of the appendices were sent to all those receiving this notice in the mail.

Land Requirements for Construction

Construction of the proposed facilities would require about 322.8 acres of land, entirely within 852 acres of private land that SPLNG has leased for the Phase I and Phase II projects. Of the 322.8 acres, about 211.0 acres overlaps with Phase I Project construction and operation area. Following construction, about 73.9 acres would be used for operation of the Phase II Project. The remaining 248.9 acres of land would be allowed to revert to pre-construction conditions once construction is complete. No nonjurisdictional facilities are proposed for this project.

The EA Process

The National Environmental Policy Act (NEPA) requires the Commission to take into account the environmental impacts that could result from an action whenever it considers the issuance of a Certificate of Public Convenience and Necessity. NEPA also requires us to discover and address concerns the public may have about proposals. This process is referred to as “scoping”. The main goal of the scoping process is to focus the analysis in the EA on the important environmental issues. By this Notice of Intent, the Commission staff requests public comments on the scope of the issues to address in the EA. All comments received are considered during the preparation of the EA. State and local government representatives are encouraged to notify their constituents of this proposed action and encourage them to comment on their areas of concern.

In the EA we ³ will discuss impacts that could occur as a result of the construction and operation of the proposed project under these general headings:

³ “We”, “us”, and “our” refer to the environmental staff of the Office of Energy Projects (OEP).

• Geology and soils

• Land use

• Water resources, fisheries, and wetlands

• Cultural resources

• Vegetation and wildlife

• Air quality and noise

• Hazardous waste

• Endangered and threatened species

• Public safety

We will also evaluate possible alternatives to the proposed project or portions of the project, and make recommendations on how to lessen or avoid impacts on the various resource areas.

Our independent analysis of the issues will be in the EA. Depending on the comments received during the scoping process, the EA may be published and mailed to federal, state, and local agencies, public interest groups, interested individuals, affected landowners, newspapers, libraries, and the Commission(s official service list for this proceeding. A comment period will be allotted for review if the EA is published. We will consider all comments on the EA before we make our recommendations to the Commission.

To ensure your comments are considered, please carefully follow the instructions in the public participation section below.

Currently Identified Environmental Issues

We have already identified three issues that we think deserve attention based on a preliminary review of the proposed facilities and the environmental information provided by SPLNG. This preliminary list of issues may be changed based on your comments and our analysis.

• Impacts associated with the additional LNG ship traffic in Sabine Pass.

• Impacts associated with the use of Ambient Air Vaporizers.

• About 100 acres of wetland would be impacted during construction, including about 60.3 acres of permanent wetland impact from operation.

Public Participation

You can make a difference by providing us with your specific comments or concerns about the project. By becoming a commentor, your concerns will be addressed in the EA and considered by the Commission. You should focus on the potential environmental effects of the proposal, alternatives to the proposal (including alternative site layouts), and measures to avoid or lessen environmental impact. The more specific your comments, the more useful they will be. We are extending our normal comment period of 30 days to 60 days due to the effects of Hurricane Katrina. Please carefully follow these instructions to ensure that your comments are received in time and properly recorded:

• Send an original and two copies of your letter to: Magalie R. Salas, Secretary, Federal Energy Regulatory Commission, 888 First St., NE., Room 1A, Washington, DC 20426.

• Label one copy of the comments for the attention of Gas Branch 2.

• Reference Docket No. CP05-396.

• Mail your comments so that they will be received in Washington, DC on or before November 15, 2005.

Please note that we are continuing to experience delays in mail deliveries from the U.S. Postal Service. As a result, we will include all comments that we receive within a reasonable time frame in our environmental analysis of this project. However, the Commission strongly encourages electronic filing of any comments or interventions or protests to this proceeding. See 18 CFR 385.2001(a)(1)(iii) and the instructions on the Commission's Web site at http://www.ferc.gov under the “e-Filing” link and the link to the User's Guide. Before you can file comments you will need to create a free account which can be created online.

We may mail the EA for comment. If you are interested in receiving it, please return the Information Request (Appendix 3). If you do not return the Information Request, you will be taken off the mailing list.

Becoming an Intervenor

In addition to involvement in the EA scoping process, you may want to become an official party to the proceeding, or “intervenor”. To become an intervenor you must file a motion to intervene according to Rule 214 of the Commission's Rules of Practice and Procedure (18 CFR 385.214). Intervenors have the right to seek rehearing of the Commission's decision. Motions to Intervene should be electronically submitted using the Commission's eFiling system at http://www.ferc.gov. Persons without Internet access should send an original and 14 copies of their motion to the Secretary of the Commission at the address indicated previously. Persons filing Motions to Intervene on or before the comment deadline indicated above must send a copy of the motion to the Applicant. All filings, including late interventions, submitted after the comment deadline must be served on the Applicant and all other intervenors identified on the Commission's service list for this proceeding. Persons on the service list with e-mail addresses may be served electronically; others must be served a hard copy of the filing.

Affected landowners and parties with environmental concerns may be granted intervenor status upon showing good cause by stating that they have a clear and direct interest in this proceeding which would not be adequately represented by any other parties. You do not need intervenor status to have your environmental comments considered.

Environmental Mailing List

An effort is being made to send this notice to all individuals, organizations, and government entities interested in and/or potentially affected by the proposed project. This includes all landowners whose property may be affected for project purposes, or who own homes within distances defined in the Commission's regulations of certain aboveground facilities. By this notice we are also asking governmental agencies, especially those in Appendix 2 to express their interest in becoming cooperating agencies for the preparation of the EA.

Additional Information

Additional information about the project is available from the Commission's Office of External Affairs, at 1-866-208-FERC or on the FERC Internet Web site (http://www.ferc.gov) using the eLibrary link. Click on the eLibrary link, click on “General Search” and enter the docket number excluding the last three digits in the Docket Number field. Be sure you have selected an appropriate date range. For assistance, please contact FERC Online Support at FercOnlineSupport@ferc.gov or toll free at 1-866-208-3676, or for TTY, contact (202) 502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to http://www.ferc.gov/esubscribenow.htm.

Finally, public meetings or site visits will be posted on the Commission's calendar located at http://www.ferc.gov/EventCalendar/EventsList.aspx along with other related information.

Magalie R. Salas,
Secretary.

[FR Doc. E5-5215 Filed 9-27-05; 8:45 am]

BILLING CODE 6717-01-P